DEPARTMENT OF STATE

[Public Notice: 12735]

Bureau of Political-Military Affairs, Directorate of Defense Trade Controls: Notifications to the Congress of Proposed Commercial Export Licenses

SUMMARY: The Directorate of Defense Trade Controls and the Department of State give notice that the attached Notifications of Proposed Commercial Export Licenses were submitted to the Congress on the dates indicated.

DATES: The dates of notification to Congress are as shown on each of the 25 Letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner.

The following comprise recent such notifications and are published to give notice to the public.

October 7, 2024

Congressional Notification Transmittal Letter

Please find enclosed the following notification from the Department of State.

Department Notification Number: DDTC 24-047.

Pursuant to Section 36(c) of the Arms Export Control Act, please find enclosed a certification of a proposed license for the export of firearms, parts, and components controlled under Category I of the U.S. Munitions List in the amount of $1,000,000 or more.

The transaction contained in the attached certification involves the export of .50 caliber fully automatic machine guns and related parts to the UAE.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 7, 2024

Congressional Notification Transmittal Letter

Please find enclosed the following notification from the Department of State.

Department Notification Number: DDTC 24-049.

Pursuant to Section 36(c) of the Arms Export Control Act, please find enclosed a certification of a proposed license for the export of defense articles in the amount of $50,000,000 or more.

The transaction contained in the attached certification involves the export to India of buoy-tethered undersea surveillance systems and a shoreside processing software system.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 7, 2024

Congressional Notification Transmittal Letter

Please find enclosed the following notification from the Department of State.

Department Notification Number: DDTC 24-053.

Pursuant to Section 36(c) of the Arms Export Control Act, please find enclosed a certification of a proposed license for the export of firearms, parts, and components controlled under Category I of the U.S. Munitions List in the amount of $1,000,000 or more.

The transaction contained in the attached certification involves the export of .300 caliber fully automatic rifles, suppressors, and related parts to Singapore.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 8, 2024

Congressional Notification Transmittal Letter

Please find enclosed the following notification from the Department of State.

Department Notification Number: DDTC 24-046.

Pursuant to Section 36(c) of the Arms Export Control Act, please find enclosed a certification of a proposed agreement amendment for the export of defense articles, including technical data, and defense services in the amount of $100,000,000 or more.

The transaction contained in the attached certification involves the export of classified defense articles, including technical data, and defense services to Australia and the UK for the integration and support of radar subsystems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 8, 2024

Congressional Notification Transmittal Letter

Please find enclosed the following notification from the Department of State.

Department Notification Number: DDTC 24-063.

Pursuant to Section 36(d) of the Arms Export Control Act, please find enclosed a certification of a proposed license for the export of defense articles, including technical data, and defense services for the manufacture of significant military equipment abroad.

The transaction contained in the attached certification involves the export of defense articles, including technical data, and defense services to Canada to support the manufacture of certain ground control systems for an unmanned aircraft system.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 11, 2024

Congressional Notification Transmittal Letter

Please find enclosed the following notification from the Department of State.

Department Notification Number: DDTC 24-036.

Pursuant to Section 36(c) of the Arms Export Control Act, please find enclosed a certification of a proposed license amendment for the export of defense articles, including technical data, and defense services in the amount of $50,000,000 or more.

The transaction contained in the attached certification involves the export of defense articles, including technical data, and defense services to Saudi Arabia, Australia, and the UAE to support sustainment, maintenance, operation, and training for air missile defense systems and maintenance and operation of U.S. military vehicles and certain other foreign weapons systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 24, 2024

Congressional Notification Transmittal Letter

Please find enclosed the following notification from the Department of State.

Department Notification Number: DDTC 24-056.

Pursuant to Section 36(c) of the Arms Export Control Act, please find enclosed a certification of a proposed agreement for the export of defense articles, including technical data, and defense services in the amount of $50,000,000 or more.

The transaction contained in the attached certification involves the export of defense articles, including technical data, and defense services to Germany, Italy, Spain, and the UK in support of electronic warfare training, simulation, and testing systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 30, 2024

Congressional Notification Transmittal Letter

Please find enclosed the following notification from the Department of State.

Department Notification Number: DDTC 24-061.

Pursuant to Section 36(d) of the Arms Export Control Act, please find enclosed a certification of a proposed license for the export of defense articles, including technical data, and defense services for the manufacture of significant military equipment abroad.

The transaction contained in the attached certification involves the export of defense articles, including technical data, and defense services to the UK to support design, development, engineering, integration, production, manufacturing, testing, maintenance, modification, demonstration and processing of communications intelligence systems and counter drone systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 30, 2024

Congressional Notification Transmittal Letter

Please find enclosed the following notification from the Department of State.

Department Notification Number: DDTC 24-069.

Pursuant to Sections 36(c) and 36(d) of the Arms Export Control Act, please find enclosed a certification of a proposed license amendment for the export of defense articles, including technical data, and defense services in the amount of $100,000,000 or more and the manufacture of significant military equipment abroad.

The transaction contained in the attached certification involves the export of defense articles, including technical data, and defense services to Greece and Poland to support the manufacture of missile launchers.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 30, 2024

Congressional Notification Transmittal Letter

Please find enclosed the following notification from the Department of State.

Department Notification Number: DDTC 24-080.

Pursuant to Section 36(c) of the Arms Export Control Act, please find enclosed a certification of a proposed license for the export of defense articles in the amount of $25,000,000 or more.

The transaction contained in the attached certification involves the export of defense articles to Germany of guided missiles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 31, 2024

Congressional Notification Transmittal Letter

Please find enclosed the following notification from the Department of State.

Department Notification Number: DDTC 24-048.

Pursuant to Section 36(d) of the Arms Export Control Act, please find enclosed a certification of a proposed license for the export of defense articles, including technical data, and defense services for the manufacture of significant military equipment abroad.

The transaction contained in the attached certification involves the export of defense articles, including technical data, and defense services to Italy and the UK to support the assembly, integration, maintenance, modification, operation, manufacture, production, repair, testing, and training for laser-guided bomb warheads.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

October 31, 2024

Congressional Notification Transmittal Letter

Please find enclosed the following notification from the Department of State.

Department Notification Number: DDTC 24-067.

Pursuant to Section 36(c) of the Arms Export Control Act, please find enclosed a certification of a proposed license amendment for the export of defense articles, including technical data, and defense services in the amount of $100,000,000 or more.

The transaction contained in the attached certification involves the export of defense articles, including technical data, and defense services to the UK to support the manufacture of engine parts and components for fighter aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

November 19, 2024

Congressional Notification Transmittal Letter

Please find enclosed the following notification from the Department of State.

Department Notification Number: DDTC 24-068.

Pursuant to Section 36(c) of the Arms Export Control Act, please find enclosed a certification of a proposed license amendment for the export of defense articles, including technical data, and defense services in the amount of $100,000,000 or more.

The transaction contained in the attached certification involves the export of defense articles, including technical data, and defense services to Denmark and the UK to support the manufacture of components for fighter aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

November 29, 2024

Congressional Notification Transmittal Letter

Please find enclosed the following notification from the Department of State.

Department Notification Number: DDTC 24-071.

Pursuant to Section 36(d) of the Arms Export Control Act, please find enclosed a certification of a proposed license for the export of defense articles, including technical data, and defense services for the manufacture of significant military equipment abroad.

The transaction contained in the attached certification involves the export of defense articles, including technical data, and defense services to Israel and Romania to support the manufacture and repair of laser tracker receivers and components for a target sensor program.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

November 29, 2024

Congressional Notification Transmittal Letter

Please find enclosed the following notification from the Department of State.

Department Notification Number: DDTC 24-072.

Pursuant to Sections 36(c) and 36(d) of the Arms Export Control Act, please find enclosed a certification of a proposed license for the export of defense articles, including technical data, and defense services in the amount of $100,000,000 or more and the manufacture of significant military equipment abroad.

The transaction contained in the attached certification involves the export of defense articles, including technical data, and defense services to Germany, Luxembourg, and Poland to support the manufacture, production, assembly, fabrication, integration, testing, inspection, repair, and refurbishment of missile propulsion sections, associated test equipment, subassemblies, and components.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

December 12, 2024

Congressional Notification Transmittal Letter

Please find enclosed the following notification from the Department of State.

Department Notification Number: DDTC 24-043.

Pursuant to Section 36(c) of the Arms Export Control Act, please find enclosed a certification of a proposed license for the export of firearms, parts, and components controlled under Category I of the U.S. Munitions List in the amount of $1,000,000 or more.

The transaction contained in the attached certification involves the export of 5.56mm fully automatic carbines and rifles and upgrade kits to Senegal.

The U.S. government is prepared to license the export of these items having taken into account political, military, economic, human rights, and arms control considerations.

More detailed information is contained in the formal certification which, though unclassified, contains business information submitted to the Department of State by the applicant, publication of which could cause competitive harm to the· U.S. firm concerned.

Recipients:

Speaker of the House of Representatives

House Committee on Foreign Affairs

Senate Committee on Foreign Relations

Sincerely,

Naz Durakoğlu

Assistant Secretary, Bureau of Legislative Affairs.

December 12, 2024

Congressional Notification Transmittal Letter

Please find enclosed the following notification from the Department of State.

Department Notification Number: DDTC 24-060.

Pursuant to Sections 36(c) and 36(d) of the Arms Export Control Act, please find enclosed a certification of a proposed license for the export of defense articles, including technical data, and defense services in the amount of $100,000,000 or more and the manufacture of significant military equipment abroad.

The transaction contained in the attached certification involves the export of defense articles, including technical data, and defense services to Australia and UK to support the manufacture of parts and components for modification of airborne early warning and control aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

December 12, 2024

Congressional Notification Transmittal Letter

Please find enclosed the following notification from the Department of State.

Department Notification Number: DDTC 24-088.

Pursuant to Section 36(c) of the Arms Export Control Act, please find enclosed a certification of a proposed license for the export of firearms, parts, and components controlled under Category I of the U.S. Munitions List in the amount of $1,000,000 or more.

The transaction contained in the attached certification involves the export of 7.62mm fully automatic machine guns and spare parts to Germany.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

December 18, 2024

Congressional Notification Transmittal Letter

Please find enclosed the following notification from the Department of State.

Department Notification Number: DDTC 21-065.

Pursuant to Section 36(c) of the Arms Export Control Act, please find enclosed a certification of a proposed license for the export of firearms abroad controlled under Category I of the U. S. Munitions List in the amount of $1,000,000 or more.

The transaction contained in the attached certification involves the export of 5.56mm fully automatic rifles to Saudi Arabia.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

December 18, 2024

Congressional Notification Transmittal Letter

Please find enclosed the following notification from the Department of State.

Department Notification Number: DDTC 23-029.

Pursuant to Section 36(c) of the Arms Export Control Act, please find enclosed a certification of a proposed license for the export of firearms, parts, and components abroad controlled under Category I of the U.S. Munitions List in the amount of $1,000,000 or more.

The transaction contained in the attached certification involves the export of machine guns and related components to Saudi Arabia.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

December 18, 2024

Congressional Notification Transmittal Letter

Please find enclosed the following notification from the Department of State.

Department Notification Number: DDTC 23-101.

Pursuant to Section 36(c) of the Arms Export Control Act, please find enclosed a certification of a proposed license amendment for the export of defense articles, including technical data, and defense services in the amount of $50,000,000 or more.

The transaction contained in the attached certification involves the export of defense articles, including technical data, and defense services to Denmark to support the procurement and integration of guided bombs and related weapon systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

December 18, 2024

Congressional Notification Transmittal Letter

Please find enclosed the following notification from the Department of State.

Department Notification Number: DDTC 24-055.

Pursuant to Sections 36(c) and 36(d) of the Arms Export Control Act, please find enclosed a certification of a proposed license for the export of defense articles, including technical data, and defense services in the amount of $50,000,000 or more and the manufacture of significant military equipment abroad.

The transaction contained in the attached certification involves the export of defense articles, including technical data, and defense services to Mexico to support the manufacture, production, assembly, and testing of air and ground data terminals for unmanned aerial vehicles.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu

Assistant Secretary, Bureau of Legislative Affairs.

December 26, 2024

Congressional Notification Transmittal Letter

Please find enclosed the following notification from the Department of State.

Department Notification Number: DDTC 24-073.

Pursuant to Section 36(c) of the Arms Export Control Act, please find enclosed a certification of a proposed license for the export of firearms, parts, and components controlled under Category I of the U.S. Munitions List in the amount of $1,000,000 or more.

The transaction contained in the attached certification involves the export of 7.62mm fully automatic rifles and related parts to India.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw

Principal Deputy Assistant Secretary, Bureau of Legislative Affairs.

December 26, 2024

Congressional Notification Transmittal Letter

Please find enclosed the following notification from the Department of State.

Department Notification Number: DDTC 24-092.

Pursuant to Section 36(c) of the Arms Export Control Act, please find enclosed a certification of a proposed license for the export of defense articles, including technical data, and defense services in the amount of $50,000,000 or more.

The transaction contained in the attached certification involves the export of defense articles, including technical data, and defense services to Germany, the Netherlands, Romania, and Ukraine to support the training of foreign pilots.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw

Principal Deputy Assistant Secretary, Bureau of Legislative Affairs.

December 30, 2024

Congressional Notification Transmittal Letter

Please find enclosed the following notification from the Department of State.

Department Notification Number: DDTC 24-108.

Pursuant to Section 36(c) of the Arms Export Control Act, please find enclosed a certification of a proposed license for the export of defense articles, including technical data, and defense services in the amount of $50,000,000 or more.

The transaction contained in the attached certification involves the export of 40mm grenades to Ukraine.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw

Principal Deputy Assistant Secretary, Bureau of Legislative Affairs.

Michael J. Vaccaro,
Deputy Assistant Secretary, Directorate of Defense Trade Controls, Department of State.

[FR Doc. 2025-09823 Filed 5-29-25; 8:45 am]

BILLING CODE 4710-25-P